EMERGENCY STEEL GUARANTEE LOAN BOARD

Submission for OMB Review; Comment Request

The Emergency Steel Guarantee Loan Board has submitted to the Office of Management and Budget (OMB) for clearance the following proposal for collection of information under the provisions of the Paperwork Reduction Act (44 U.S.C. Chapter 35). This collection has been submitted under the emergency Paperwork Reduction Act procedures.

Agency: Emergency Steel Guarantee Loan Board.

Title: Guarantee Agreement.

Agency Form Number: None.

OMB Approval Number: None.

Type of Request: New collection—EMERGENCY REVIEW.

Burden: 1,475 hours.

Number of Respondents: 20.

Avg. Hours per Response: 80.

Needs and Uses: Pursuant to “The Emergency Steel Loan Guarantee Act of 1999,” Chapter 1, Public Law 106-51, the Emergency Steel Guarantee Loan Board developed a guarantee agreement that must be signed by qualified steel companies that receive loan guarantees. The information being collected will be used and is necessary to ensure that the applicant is meeting the conditions of the guarantee agreement and to protect the Federal government from default and/or fraud. The information is also required as supporting documentation for annual or other audits that may be conducted by or on behalf of the Board or by the General Accounting Office (GAO) for as long as the guarantee agreement is in effect.

Affected Public: Businesses.

Frequency: Quarterly and, if applicable, in the event of noncompliance with terms of the guarantee agreement.

Respondent's Obligation: Voluntary but required to obtain a loan guarantee.

OMB Desk Officer: David Rostker, (202) 395-3897.

Copies of the above information collection proposal can be obtained by calling or writing Linda Engelmeier, DOC Forms Clearance Officer, (202) 482-3272, Department of Commerce, Room 5027, 14th and Constitution Avenue, NW, Washington, DC 20230.

Written comments and recommendations for the proposed information collection should be sent to David Rostker, OMB Desk Officer, Room 10202, New Executive Office Building, 725 17th Street, NW, Washington, DC 20503. A clearance has been requested by May 12, 2000.

Dated: April 21, 2000.
Linda Engelmeier,
Departmental Forms Clearance Officer, Office of the Chief Information Officer.

[FR Doc. 00-10484 Filed 4-26-00; 8:45 am]

BILLING CODE 3510-BP-P